FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 12, 2010.

A. Federal Reserve Bank of Minneapolis (Jacqueline G. King, Community Affairs Officer) 90 Hennepin Avenue, Minneapolis, Minnesota 55480-0291:

1. Vivian Y. Miller Revocable Trust, Roseau, Minnesota; Vivian Y. Miller, Naples, Florida, as trustee of the Vivian Y. Miller Revocable Trust; the Michael J. Miller Trust, Roseau, Minnesota; Jon L. Miller, Naples, Florida, individually and as trustee of the Vivian Y. Miller Revocable Trust and the Michael J. Miller Trust; the William I. Hagen Revocable Trust, Roseau, Minnesota; William I. Hagen, Warroad, Minnesota, individually and as trustee of the William I. Hagen Revocable Trust; William M. Hagen, Salol, Minnesota; Lori Ann Minard, Bozeman, Montana; Melissa L. Tedford, Fargo, North Dakota; Neal L. Broten, River Falls, Wisconsin; Sally T. Broten, River Falls, Wisconsin; Susan L. Miller, Minneapolis, Minnesota; and Brian J. MacLellan, Minneapolis, Minnesota, as a group acting in concert to acquire additional voting shares of Border Bancshares, Inc., and thereby indirectly acquire additional voting shares of Border State Bank, both of Greenbush, Minnesota.

2. Dennis and Terri Brazier, Greenbush, Minnesota, to acquire voting shares of Border Bancshares, Inc., and thereby indirectly acquire voting shares of Border State Bank, both of Greenbush, Minnesota.

Board of Governors of the Federal Reserve System, March 23, 2010.
Robert deV. Frierson,
Deputy Secretary of the Board.

[FR Doc. 2010-6732 Filed 3-25-10; 8:45 am]

BILLING CODE 6210-01-S